DEPARTMENT OF HEALTH AND HUMAN SERVICES

Centers for Medicare & Medicaid Services

[Document Identifier: CMS-R-238]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension of a currently approved collection; Title of Information Collection: Inpatient Psychiatric Services for Individuals Under Age 21 and Supporting Regulations in 42 CFR 441.152; Form No.: CMS—(OMB# 0938-0754); Use: Certification requirements in section 441.152 are modified to require that the certification of need for inpatient psychiatric services include documented clinical evidence that serves as the basis for the certification of need for inpatient psychiatric care. Section 1905(h)(1)(B) requires physicians and other personnel qualified to make determinations with respect to mental health conditions and the treatment thereof certify the need for care which they have determined to be necessary on an inpatient basis; Affected Public: State, local, or tribal govt, Business or other for-profit, Not-for-profit institutions; Number of Respondents: 80,000; Total Annual Responses: 80,000; Total Annual Hours: 1.

To obtain copies of the supporting statement and any related forms for the proposed paperwork collections referenced above, access CMS's Web site address at http://www.hcfa.gov/regs/prdact95.htm, or e-mail your request, including your address, phone number, OMB number, and HCFA document identifier, to Paperwork@hcfa.gov, or call the Reports Clearance Office on (410) 786-1326. Written comments and recommendations for the proposed information collections must be mailed within 60 days of this notice directly to the CMS Paperwork Clearance Officer designated at the following address: CMS, Office of Information Services, Security and Standards Group, Division of CMS Enterprise Standards, Attention: Julie Brown CMS-R-238, Room N2-14-26, 7500 Security Boulevard, Baltimore, Maryland 21244-1850.

Dated: October 4, 2001.
John P. Burke III,
Reports Clearance Officer, Security and Standards Group, Division of CMS Enterprise Standards.

[FR Doc. 01-25683 Filed 10-11-01; 8:45 am]

BILLING CODE 4120-03-P